DEPARTMENT OF COMMERCE

Bureau of Industry and Security

[Docket No. 080229350-8434-01]

Request for Public Comments on Crime Control License Requirements in the Export Administration Regulations

AGENCY: Bureau of Industry and Security, Commerce.

ACTION: Notice of inquiry.

SUMMARY: The Bureau of Industry and Security is seeking public comment on the crime control export and reexport license requirements contained in the Export Administration Regulations. Specifically, BIS is seeking public input on whether the scope of items currently subject to crime control license requirements should be revised to add or remove items. BIS is also seeking public comments on whether the destinations to which crime control license requirements apply should be revised.

DATES: Comments must be received no later than June 17, 2008.

ADDRESSES: Written comments may be submitted via http://www.regulations.gov (at the home page, in the field under the search tab, enter BIS-2008-0005-0001. When the page containing this notice appears, click on the “comment” link). Comments may also be submitted by e-mail directly to BIS at publiccomments@bis.doc.gov or on paper to U.S. Department of Commerce, Bureau of Industry and Security, Regulatory Policy Division, Room H-7205, Washington DC 20230.

FOR FURTHER INFORMATION CONTACT: Chantal Lakatos, Office of Non-proliferation and Treaty Compliance, Bureau of Industry and Security, telephone: 202-482-1739; fax: 202-482-4145; e-mail: clakatos@bis.doc.gov.

SUPPLEMENTARY INFORMATION:

Background

The Export Administration Regulations (15 Code of Federal Regulations (CFR) Parts 730-774) impose license requirements for certain exports from the United States and reexports from other countries. One of the reasons that a license may be required is “crime control.” The purpose of the crime control license requirement is the “support of U.S. foreign policy to promote human rights throughout the world” (15 CFR 742.7(a)). The items to which crime control license requirements apply are listed in the Commerce Control List (CCL) (15 CFR Part 774, Supp. No. 1). The specific entries on the CCL that describe items to which crime control license requirements apply are set forth in 15 CFR 742.7(a)(1) through (4). That section also describes, in part through reference to the country chart in 15 CFR Part 738, Supp. No. 1, the destinations to which licenses are required. Items currently subject to crime control license requirements generally are either exclusively or primarily used for law enforcement purposes.

In light of the recent significant technological advances in many industries, a review of the scope of items subject to crime control license requirements is warranted. The existing controls are described below.

Existing Crime Control License Requirements Based on 15 CFR 742.7(a)(1) Through (4)

Items Subject to License Requirements

The following list describes in general terms the items for which a license is required for crime control reasons. Some of these items may also require licenses for other reasons and some of these Export Control Classification Numbers (ECCNs) may include some items to which the crime control license requirement does not apply. This list provides a general outline of the overall scope of items for which a license is required for crime control reasons as set forth in 15 CFR 742.7(a)(1) through (4). For more detailed and exact descriptions, see the individual CCL entries.

ECCN Item.

0A978 Saps.

0A979 Police helmets and shields.

0A982 Restraint devices.

0A984 Shotguns with a barrel length of 18 inches or more.

0A985 Discharge type arms.

0A987 Optical sighting devices.

0E982 Technology exclusively for development or production of commodities covered by 0A982 or 0A985.

0E984 Technology for development or production of shotguns covered by 0A984.

1A984 Tear gas, smoke bombs, liquid pepper, et cetera.

1A985 Fingerprinting powders, dyes and inks.

3A980 Voice print identification equipment.

3A981 Polygraphs, fingerprint analyzers.

3D980 Software specially designed for development, production, or use of commodities covered by 3A980 or 3A981.

3E980 Technology specially designed for development, production, or use of commodities covered by 3A980 or 3A981.

4A003 Digital computers (for fingerprint equipment).

4A980 Computers for fingerprint equipment not elsewhere specified on the CCL.

4D001 Software specially designed or modified for the development, production or use of computerized fingerprint equipment controlled by ECCN 4A003.

4D980 Software for development, production or use of ECCN 4A980 fingerprint computers.

4E001 Technology for development, production or use of digital computers for fingerprint equipment controlled by ECCN 4A003.

4E980 Technology for development, production or use of ECCN 4A980 fingerprint equipment computers.

6A002.c Police-model infrared viewers.

6E001 Technology for police-model infrared viewers development.

6E002 Technology for police-model infrared viewer production.

9A980 Mobile crime laboratories.

Destinations Subject to License Requirements

The destinations to which crime control license requirements apply vary according to the item.

Restraint devices as described in ECCN 0A982, discharge type arms as described in ECCN 0A985, and technology as described in ECCN 0E982 require a license to all destinations other than Canada.

Shotguns described in ECCN 0A984 with a barrel length of 24 inches or greater and technology described in ECCN 0E984 for the development or production of such shotguns require a license for crime control reasons to all end-users in Albania, Armenia, Azerbaijan, Belarus, Cambodia, Fiji, Georgia, Iraq, Kazakhstan, North Korea, Kyrgystan, Laos, Moldova, Mongolia, Montenegro, Russia, Rwanda, Serbia, Tajikistan, Turkmenistan, Ukraine, Uzbekistan and Vietnam.

Shotguns with a barrel length of 24 inches or greater and technology described in ECCN 0E984 for the development or production of such shotguns require a license if they are to be sold or transferred to the police in a destination other than Australia, Belgium, Bulgaria, Canada, Czech Republic, Denmark, Estonia, France, Germany, Greece, Hungary, Iceland, Italy, Japan, Latvia, Lithuania, Luxembourg, the Netherlands, New Zealand, Norway, Poland, Portugal, Romania, Slovakia, Slovenia, Spain, Turkey and the United Kingdom.

All other items for which a license is required for crime control reasons pursuant to 15 CFR 742.7(a), including shotguns with a barrel length equal to or greater than 18 inches but less than 24 inches and technology for the development or production of such shotguns, require a license for export or reexport to all destinations except Australia, Belgium, Bulgaria, Canada, Czech Republic, Denmark, Estonia, France, Germany, Greece, Hungary, Iceland, Italy, Japan, Latvia, Lithuania, Luxembourg, the Netherlands, New Zealand, Norway, Poland, Portugal, Romania, Slovakia, Slovenia, Spain, Turkey and the United Kingdom.

BIS is not seeking comments on license requirements for shotguns with a barrel length of less than 18 inches, rifles or pistols because their export and reexport is subject to the International Traffic in Arms Regulations, which are administered by the Department of State.

Requests for Comments

BIS is seeking public comments on whether the scope of items subject to the crime control license requirements of 15 CFR 742.7(a)(1) through (4) should be modified. Such modification might include adding items, removing items or altering the descriptions of items currently subject to such license requirements. BIS is particularly, but not exclusively, interested in comments on whether items such as biometric devices, integrated security systems, and training software, particularly firearms training software, should be subject to crime control license requirements.

BIS is also seeking public comments on whether the universe of destinations to which a license is required should be changed, either by adding or removing destinations. Comments that address practical considerations such as defining license requirements with sufficient clarity to be understood by the public and sufficient precision to support the U.S. foreign policy to promote human rights without placing excessive costs on transactions that do not impact human rights are likely to be more useful than comments that do not address those considerations. Comments that provide a reasoned explanation in support of the position taken in the comment are likely to be more useful than comments that merely assert a position without such explanation.

Dated: March 14, 2008.
Matthew S. Borman,
Acting Assistant Secretary for Export Administration.

[FR Doc. E8-5614 Filed 3-18-08; 8:45 am]

BILLING CODE 3510-33-P